DEPARTMENT OF HOMELAND SECURITY

Federal Emergency Management Agency

44 CFR Part 65

[Docket ID FEMA-2012-0003]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below of the modified BFEs for each community listed. These modified BFEs have been published in newspapers of local circulation and ninety (90) days have elapsed since that publication. The Deputy Associate Administrator for Mitigation has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Alabama:
Mobile (FEMA Docket No.: B-1240) | City of Mobile (11-04-2597P) | Nov. 10, 2011, Nov. 17, 2011, The Press-Register | The Honorable Samuel L. Jones, Mayor, City of Mobile, 205 Government Street, South Tower, 10th Floor, Mobile, AL 36602 | Mar. 16, 2012 | 015007
Mobile (FEMA Docket No.: B-1235) | Unincorporated areas of Mobile County (11-04-1739P) | Oct. 27, 2011, Nov. 3, 2011, The Press-Register | The Honorable Merceria Ludgood, Chair, Mobile County Commission, 205 Government Street, Mobile, AL 36644 | Mar. 2, 2012 | 015008
Arizona:
Coconino (FEMA Docket No.: B-1244) | City of Flagstaff (11-09-0801P) | Oct. 27, 2011, Nov. 3, 2011, The Arizona Daily Sun | The Honorable Sara Presler, Mayor, City of Flagstaff, 211 West Aspen Avenue, Flagstaff, AZ 86001 | Mar. 2, 2012 | 040020
Maricopa (FEMA Docket No.: B-1244) | City of Peoria (11-09-3985P) | Dec. 8, 2011, Dec. 15, 2011, The Arizona Business Gazette | The Honorable Bob Barrett, Mayor, City of Peoria, 8401 West Monroe Street, Peoria, AZ 85345 | Nov. 29, 2011 | 040050
California:
Orange (FEMA Docket No.: B-1240) | City of Laguna Beach (11-09-3647P) | Nov. 4, 2011, Nov. 11, 2011, The Laguna Beach Coastline Pilot | The Honorable Toni Iseman, Mayor, City of Laguna Beach, 505 Forest Avenue, Laguna Beach, CA 92651 | Mar. 12, 2012 | 060223
Santa Clara (FEMA Docket No.: B-1240) | City of San Jose (12-09-0140P) | Dec. 2, 2011, Dec. 9, 2011, The San Jose Mercury News | The Honorable Chuck Reed, Mayor, City of San Jose, 200 East Santa Clara Street, San Jose, CA 95113 | Dec. 22, 2011 | 060349
Colorado:
Adams (FEMA Docket No.: B-1235) | City of Commerce City (10-08-1048P) | Oct. 25, 2011, Nov. 1, 2011, The Commerce City Sentinel Express | The Honorable Paul Natale, Mayor, City of Commerce City, 7887 East 60th Avenue, Commerce City, CO 80022 | Mar. 2, 2012 | 080006
El Paso (FEMA Docket No.: B-1240) | City of Colorado Springs (11-08-0869P) | Nov. 2, 2011, Nov. 9, 2011, The El Paso County Advertiser and News | The Honorable Steve Bach, Mayor, City of Colorado Springs, 30 South Nevada Avenue, Colorado Springs, CO 80903 | Mar. 8, 2012 | 080060
El Paso (FEMA Docket No.: B-1240) | Unincorporated areas of El Paso County (11-08-0869P) | Nov. 2, 2011, Nov. 9, 2011, The El Paso County Advertiser and News | The Honorable Dennis Hisey, Chairman, El Paso County Board of Commissioners, 27 East Vermijo Avenue, Colorado Springs, CO 80903 | Mar. 8, 2012 | 080059
Routt (FEMA Docket No.: B-1244) | Town of Hayden (11-08-0603P) | Nov. 6, 2011, Nov. 13, 2011, The Steamboat Pilot & Today | The Honorable Jim Haskins, Mayor, Town of Hayden, 178 West Jefferson Avenue, Hayden, CO 81639 | Mar. 12, 2012 | 080157
Weld (FEMA Docket No.: B-1244) | City of Fort Lupton (11-08-0714P) | Nov. 9, 2011, Nov. 16, 2011, The Greeley Tribune | The Honorable Tommy Holton, Mayor, City of Fort Lupton, 130 South McKinley Avenue, Fort Lupton, CO 80621 | Mar. 15, 2012 | 080183
Weld (FEMA Docket No.: B-1244) | Unincorporated areas of Weld County (11-08-0714P) | Nov. 9, 2011, Nov. 16, 2011, The Greeley Tribune | The Honorable Douglas Rademacher, Chairman, Weld County Board of Commissioners, 1150 O Street, Greeley, CO 80631 | Mar. 15, 2012 | 080266
Florida:
Escambia (FEMA Docket No.: B-1240) | Unincorporated areas of Escambia County (11-04-7674P) | Nov. 25, 2011, Dec. 2, 2011, The Pensacola News Journal | The Honorable Wilson Robertson, Chairman, Escambia County Board of Commissioners, 221 Palafox Place, Suite 400, Pensacola, FL 32502 | Nov. 17, 2011 | 120080
Indian River (FEMA Docket No.: B-1240) | Town of Indian River Shores (11-04-7942P) | Nov. 25, 2011, Dec. 2, 2011, The Indian River Press Journal | The Honorable Thomas W. Cadden, Mayor, Town of Indian River Shores, 6001 North Highway A1A, Indian River Shores, FL 32963 | Nov. 17, 2011 | 120121
Lee (FEMA Docket No.: B-1240) | Unincorporated areas of Lee County (12-04-0044P) | Nov. 25, 2011, Dec. 2, 2011, The News-Press | The Honorable John Manning, Chairman, Lee County Board of Commissioners, 2120 Main Street, Fort Myers, FL 33901 | Nov. 17, 2011 | 125124
Lee (FEMA Docket No.: B-1244) | Unincorporated areas of Lee County (12-04-0347P) | Dec. 7, 2011, Dec. 14, 2011, The News-Press | The Honorable John Manning, Chairman, Lee County Board of Commissioners, 2120 Main Street, Fort Myers, FL 33901 | Nov. 29, 2011 | 125124
Orange (FEMA Docket No.: B-1240) | City of Orlando (11-04-7338P) | Nov. 22, 2011, Nov. 29, 2011, The Orlando Sentinel | The Honorable Buddy Dyer, Mayor, City of Orlando, 400 South Orange Avenue, Orlando, FL 32802 | Mar. 28, 2012 | 120186
Orange (FEMA Docket No.: B-1244) | City of Orlando (11-04-8600P) | Dec. 5, 2011, Dec. 12, 2011, The Orlando Sentinel | The Honorable Buddy Dyer, Mayor, City of Orlando, 400 South Orange Avenue, Orlando, FL 32802 | Nov. 22, 2011 | 120186
Hawaii:
Hawaii (FEMA Docket No.: B-1240) | City and County of Honolulu (11-09-3899P) | Nov. 10, 2011, Nov. 17, 2011, The Honolulu Star-Advertiser | The Honorable Peter B. Carlisle, Mayor, City and County of Honolulu, 530 South King Street, Room 300, Honolulu, HI 96813 | Mar. 16, 2012 | 150001
Mississippi:
DeSoto (FEMA Docket No.: B-1235) | City of Olive Branch (11-04-4496P) | Oct. 27, 2011, Nov. 3, 2011, The DeSoto Times-Tribune | The Honorable Sam Rikard, Mayor, City of Olive Branch, 9200 Pigeon Roost Road, Olive Branch, MS 38654 | Mar. 2, 2012 | 280286
Lee (FEMA Docket No.: B-1240) | City of Saltillo (10-04-8523P) | Nov. 4, 2011, Nov. 11, 2011, The Northeast Mississippi Daily Journal | The Honorable Bill Williams, Mayor, City of Saltillo, 395 Mobile Street, Saltillo, MS 38866 | Mar. 12, 2012 | 280261
Lee (FEMA Docket No.: B-1240) | Unincorporated areas of Lee County (10-04-8523P) | Nov. 4, 2011, Nov. 11, 2011, The Northeast Mississippi Daily Journal | The Honorable Joe McKinney, Chairman, Lee County Board of Supervisors, 200 West Jefferson Street, Suite 100, Tupelo, MS 38801 | Mar. 12, 2012 | 280227
New Mexico:
Chaves (FEMA Docket No.: B-1244) | City of Roswell (11-06-0142P) | Nov. 17, 2011, Nov. 24, 2011, The Roswell Daily Record | The Honorable Del Jurney, Mayor, City of Roswell, 425 North Richardson Avenue, Roswell, NM 88202 | Mar. 23, 2012 | 350006
Chaves (FEMA Docket No.: B-1244) | Unincorporated areas of Chaves County (11-06-0142P) | Nov. 17, 2011, Nov. 24, 2011, The Roswell Daily Record | The Honorable Stanton L. Riggs, Chaves County Manager, 1 Saint Mary's Place, Roswell, NM 88203 | Mar. 23, 2012 | 350125
Santa Fe (FEMA Docket No.: B-1244) | Unincorporated areas of Santa Fe County (11-06-0697P) | Nov. 29, 2011, Dec. 6, 2011, The Santa Fe New Mexican | The Honorable Virginia Vigil, Chairman, Santa Fe County Commissioners, 102 Grant Avenue, Santa Fe, NM 87501 | Nov. 23, 2011 | 350069
New York:
Dutchess (FEMA Docket No.: B-1244) | Town of Dover (12-02-0166P) | Nov. 23, 2011, Nov. 30, 2011, The Poughkeepsie Journal | The Honorable Ryan Courtien, Supervisor, Town of Dover, 126 East Duncan Hill Road, Dover Plains, NY 12522 | May 3, 2012 | 361335
North Carolina:
Stanly (FEMA Docket No.: B-1244) | City of Albemarle (11-04-3287P) | Nov. 3, 2011, Nov. 10, 2011, The Stanly News & Press | The Honorable Elbert L. Whitley, Jr., Mayor, City of Albemarle, 144 North 2nd Street, Albemarle, NC 28001 | Mar. 9, 2012 | 370223
Stanly (FEMA Docket No.: B-1244) | Unincorporated areas of Stanly County (11-04-3287P) | Nov. 3, 2011, Nov. 10, 2011, The Stanly News & Press | Mr. Andy Lucas, Stanly County Manager, 1000 North 1st Street, Suite 10, Albemarle, NC 28001 | Mar. 9, 2012 | 370361
Texas:
Denton (FEMA Docket No.: B-1244) | City of Denton (11-06-3838P) | Nov. 17, 2011, Nov. 24, 2011, The Denton Record-Chronicle | The Honorable Mark A. Burroughs, Mayor, City of Denton, 215 East McKinney Street, Denton, TX 76201 | Nov. 10, 2011 | 480194
Tarrant (FEMA Docket No.: B-1244) | City of Southlake (11-06-2709P) | Nov. 10, 2011, Nov. 17, 2011, The Fort Worth Star-Telegram | The Honorable John Terrell, Mayor, City of Southlake, 1400 Main Street, Suite 270, Southlake, TX 76092 | Mar. 16, 2012 | 480612
Virginia:
Loudoun (FEMA Docket No.: B-1244) | Unincorporated areas of Loudoun County (11-03-0738P) | Nov. 30, 2011, Dec. 7, 2011, The Loudoun Times Mirror | The Honorable Scott K. York, Chairman, Loudoun County Board of Supervisors, 1 Harrison Street, Leesburg, VA 20175 | Apr. 5, 2012 | 510090

(Catalog of Federal Domestic Assistance No. 97.022, “Flood Insurance.”)

Dated: July 12, 2012.
Sandra K. Knight,
Deputy Associate Administrator for Mitigation, Department of Homeland Security, Federal Emergency Management Agency.

[FR Doc. 2012-18494 Filed 7-27-12; 8:45 am]

BILLING CODE 9110-12-P